ENVIRONMENTAL PROTECTION AGENCY

[FRL-8209-8]

FY 2006 and 2007 Targeted Watersheds Grant Program: Availability of Funds and Request for Proposals for Implementation Projects (CFDA 66.439—Funding Opportunity Number EPA-OW-OWOW-06-3)

AGENCY: Environmental Protection Agency (EPA).

ACTION: Notice of Availability of Funds and Request for Proposals for Targeted Watersheds Implementation Projects.

SUMMARY: This notice announces the availability of funds for grants and cooperative agreements under EPA's Targeted Watersheds Grant Program. The Targeted Watersheds Grant Program is a competitive grant program designed to support the protection and restoration of the country's water resources through a holistic watershed approach to water quality management. In fiscal year (FY) 2006 Congress appropriated over $16 million for the program. The Agency is soliciting proposals under this announcement for implementation projects, and under a separate announcement for capacity building projects. The Agency anticipates additional funding for the Targeted Watersheds Grant Program in FY 2007.

Under this announcement, EPA will award approximately 9 to 20 grants or cooperative agreements for restoration and/or protection efforts. Anticipated awards will range from approximately $600,000 to $900,000 each and have a project period of three to five years. The total amount anticipated to be awarded under this announcement will range from $7.1 million to about $16 million (these totals represent combining a portion of both 2006 and anticipated 2007 Targeted Watersheds Grant funds)—the total amount to be awarded under this announcement will depend upon the FY 2007 funds and the quality of proposals received. Under this announcement, EPA is providing applicants the option of submitting their proposals either directly to EPA in hard copy or electronically via Grants.gov. (See Section IV for additional submission information and requirements.)

DATES: Proposals must be received by EPA or electronically through Grants.gov by 5 p.m. Eastern Standard Time November 13, 2006. Proposals received after this deadline will not be considered.

ADDRESSES: Erin Collard; USEPA; Office of Wetlands, Oceans, and Watersheds; Room 7136G; Mail Code 4501T; 1301 Constitution Avenue, NW. Washington, DC 20004; telephone: 202-566-2655.

FOR FURTHER INFORMATION CONTACT: For questions regarding this action, please contact the appropriate regional contact person listed in Section VII of this notice. A copy of this full announcement and additional information on the program can be found on the Targeted Watersheds Grant Web site at http://www.epa.gov/twg. The announcement is also synopsized on http://www.grants.gov.

SUPPLEMENTARY INFORMATION:

Overview Information

The Targeted Watersheds Grant Program encourages watershed practitioners to examine local water related problems in the context of the larger watershed in which they exist, to develop solutions to those problems by creatively applying the full array of available tools, including Federal, State, and local programs, and to restore and preserve water resources through strategic planning and coordinated project management that draw in public and private sector partners. Both the watershed approach and the Targeted Watersheds Grant Program focus on multi-faceted plans for protecting and restoring water resources that are developed using partnership efforts of diverse stakeholders. Hence, the goal of the Targeted Watersheds Grant Program is to advance successful partnerships and coalitions that have completed the necessary watershed assessments and have a technically sound watershed plan ready to implement.

Federal Agency Name: Environmental Protection Agency.

Funding Opportunity Title: FY 2006/2007 Targeted Watersheds Grant Program: Request for Proposals for Implementation Projects.

Announcement Type: Request for Proposals.

Funding Opportunity Number: EPA-OW-OWOW-06-3.

Catalogue of Federal Domestic Assistance (CFDA) Number: 66.439.

Dates: Proposals must be received by EPA or electronically through Grants.gov by 5 p.m. Eastern Standard Time, November 13, 2006. Proposals received after this deadline will not be considered.

I. Funding Opportunity Description

A. Targeted Watersheds Grant Program Objectives

To achieve environmental goals, EPA encourages the adoption of a watershed approach as a broad coordinating process for focusing on priority water resource problems. Using a watershed approach, multiple stakeholders integrate regional and locally led activities with local, State, tribal, and Federal environmental management programs. These environmental goals should ultimately protect and restore the health of the nation's aquatic resources, which not only includes but goes beyond meeting water quality standards.

The Targeted Watersheds Grant Program encourages watershed organizations and practitioners to examine local water related problems in the context of the larger watershed in which they exist, to develop solutions to those problems by creatively applying the full array of available tools, including Federal, State, and local programs, and to restore and preserve water resources through strategic planning and coordinated project management that draw in public and private sector partners. Both the watershed approach and the Targeted Watersheds Grant Program focus on multi-faceted plans for protecting and restoring water resources that are developed using partnership efforts of diverse stakeholders. Hence, the goal of the Targeted Watersheds Grant Program is to advance successful partnerships and coalitions that have completed the necessary watershed assessments and have a technically sound watershed plan ready to implement.

In accordance with the President's focus on building a cooperative ethic in all environmental conservation and protection activities, the Targeted Watersheds Grant Program empowers watershed organizations and practitioners to collaborate and implement environmental change. Overcoming many water quality problems requires the involvement of local citizens who have a vested interest in the creeks, rivers, lakes, estuaries, wetlands, and groundwater flowing through their neighborhoods and towns. Moreover, it is organized and sustainable partnerships comprised of an array of governmental and non-governmental entities that are the most successful in improving water resources and achieving on-the-ground results. The program is intended to encourage the kind of proactive and incentive based protection and restoration measures that will yield cleaner water and protect ecosystems. By furnishing funds to watershed organizations or practitioners, the Agency can foster the President(s cooperative conservation ideal by ensuring that affected stakeholders have the means necessary to actively participate in the watershed restoration process at local, State, and Federal levels.

B. National Priorities

Under this announcement, EPA is soliciting proposals for projects that will result in the protection, preservation, and restoration of a watershed that incorporates a watershed-based approach. Finding solutions to water quality problems requires sustainable approaches that can be aligned with core water programs. EPA is looking for innovative ways to address water quality problems that will result in tangible, measurable environmental results in a relatively short time frame. For example, market-based approaches can create social and economic incentives for implementing creative pollution reduction strategies and water protection measures. Market-based trading projects are considered an important component of innovation. One of the Assistant Administrator's key market-based priorities for protecting and restoring watersheds is the development of water quality trading pilots with states and other partners.

Proposals for watershed restoration and/or protection projects must include a monitoring component. Activities proposed for funding are not required to address the entire watershed, but are expected to have been based on a comprehensive assessment and plan for the watershed. As such, all activities should directly support the described watershed plan and Targeted Watersheds Grant funds should be used in accordance with the plan. Examples of successful proposals from past competitions can be found on the Web site at http://www.epa.gov/twg.

Watershed proposals must be nominated by Governors or Tribal Leaders. A Governor or Tribal Leader nomination letter must be provided as part of each proposal package submitted to EPA. Governors or Tribal Leaders may nominate any number of proposals, either those that are entirely within their State or tribal boundaries or interjurisdictional watersheds (i.e., those that encompass several States or Tribes). For interjurisdictional watersheds, any of the engaged Governors/Tribal Leaders may nominate the proposal. To be considered an interjurisdictional watershed (and be scored as such) the proposal must include a letter of support from all partnering States, Tribes or local government entities in the proposal package (this can include a second nomination letter from an engaged Governor/Tribal Leader, letters from local government elected officials, or letters from the appropriate water agency in the adjacent State, Tribe, or local government entity).

C. EPA's Strategic Plan and Anticipated Environmental Results

The Targeted Watersheds Grant program is linked to EPA's Strategic Plan (2003-2008 EPA's Strategic Plan). It is predicated on the concept that watersheds are improved most effectively and efficiently by managing water resource use and water quality on a watershed basis. The Targeted Watersheds Grant Program supports EPA's strategic goals (http://www.epa.gov/ocfo/plan/plan.html) to improve and restore impaired water quality on a watershed basis and facilitate ecosystem-scale protection and restoration under EPA Strategic Plan Goal 2—Clean and Safe Water, Objective 2.2 (Protect Water Quality), Sub-objective 2.2.1 (Protect and Improve Water Quality on a Watershed Basis) and Goal 4—Healthy Communities and Ecosystems, Objective 4.3 (Ecosystems), Sub-objective 4.3.1 (Protect and Restore Ecosystems).

By supporting the implementation of comprehensive watershed projects, these grants will also support the Administrator's Sustainable Infrastructure priority to develop innovative, market-based, and sustainable solutions for water infrastructure financing and management.

In accordance with the goals and objectives in the Strategic Plan, the Targeted Watersheds Grant Program aims to advance projects beyond the planning stage to the point of producing tangible environmental results. Therefore, a high priority is to support projects that are likely to achieve quantifiable outcomes within the project period. Applicants for the FY 2006/2007 funds must include specific statements describing the environmental results of the proposed project in terms of well-defined “outputs” and to the maximum extent practicable, well-defined “outcomes”.

All proposed projects must be linked to environmental results and demonstrate how they will contribute to the ultimate goals of clean and safe water and healthy communities and ecosystems. Environmental results are used as a way to gauge a project's performance and are described in terms of output measures and outcome measures. The term “output” means an activity, effort, and/or associated work product related to an environmental goal or objective that will be produced or provided over the period of time or by a specific date. The term “outcome” means an environmental result, effect or consequence that will occur from carrying out an environmental program or activity that is related to an environmental or programmatic goal or objective. Outcomes may be short-term (i.e., changes in learning, knowledge, attitude, skill), intermediate (i.e., changes in behavior, practice, or decisions), or long-term (i.e., changes in condition of natural resources).

In addition to environmental outcomes, other relevant outcomes can be behavioral, health-related, or programmatic in nature and need to be identified. An example is increasing the watershed approach information available to local and State decisionmakers who write and implement laws, ordinances, and permits. In this context, certain efforts designed to increase the watershed approach knowledge of decisionmakers can be viewed as environmental outcomes (results) if the grantee can show or measure the improvement in the knowledge of decisionmakers who are in the position to create institutional changes that are necessary to restore or protect the environment. In such instances, “outcomes” are not measured typically by environmental or water quality indicators, but rather by institutional indicators related to the adoption and application of laws and regulations, and the active management of programs necessary to provide environmental protection.

Additional information regarding EPA(s definition of environmental results in terms of “outputs” and “outcomes” can be found at: http://www.epa.gov/ogd/grants/awards/5700.7.pdf or http://www.epa.gov/water/waterplan/documents/FY06NPGappendix-b.pdf.

Outcomes expected as a result of the awards under this announcement could include:

• Actual on-the-ground water restoration or protection projects put in place.

• Baseline and resulting water quality monitoring data that indicate measurable environmental improvement.

• Local ordinances passed aimed at protection and restoration of water quality.

• Enhanced public participation and awareness of water quality issues at the community level.

• Transfer of knowledge among watershed groups across the nation.

• Improved water quality, Clean Water Act (CWA) Section 303(d) delisting of streams, or increased recreational use of water bodies.

For example, for a project aimed at reducing in-stream sediment loads, an expected output under this announcement could be the number of trees planted, the miles of riparian buffer restored, the number of culverts repaired, or other best management practices (BMPs) installed. The expected outcome of the particular activity would indicate the expected sediment reduction to be achieved (e.g., cubic yards) in a specified time period relative to the overall goal (e.g., achieving a water quality standard, delisting a stream segment listed as impaired under CWA Section 303(d), or attaining a milestone under a TMDL).

In another example, a proposal for an urban watershed may be focused on reducing stormwater runoff and bacterial contamination. The anticipated output of this activity could be the number of septic systems retrofitted, the number of farmers who install livestock fencing, or the number of homeowners who participate in a rain barrel program. Anticipated outcomes of this project could be a reduction in fecal coliform concentration, a rise in macroinvertebrate populations, or the number of days a waterbody displays a “blue flag” (i.e., is safe for swimming, fishing, or boating).

D. Key Program Changes From FY 2005

This year, EPA is making several important changes to the Targeted Watersheds Grant Program to make it more effective in addressing the Agency(s goals and to streamline review procedures. Key changes are described below and are explained in greater detail in later Sections of this notice.

First, in an effort to improve efficiencies, EPA is combining its FY 2006 and anticipated FY 2007 funds into one solicitation. The total amount to be awarded under this solicitation will depend upon the FY 2007 funding level and the quality of the proposals received.

Second, EPA is eliminating the limit on the number of proposals a Governor or Tribal Leader can nominate. In previous years, Governors and Tribal Leaders were only allowed to submit two nominations for proposals that resided entirely within their state/jurisdiction. This year however, Governors or Tribal Leaders may forward more than two proposals for consideration.

Third, the Agency is restoring the geographic scope of the solicitation. While last year Chesapeake Bay watershed projects were excluded from the national competition, this year projects that are in the Chesapeake Bay watershed are eligible to compete.

Fourth, EPA has amended the evaluation criteria. Environmental Significance has been added as a criterion. Applicants will be required to explain, and will be scored on, the importance, relevance, connection to, and applicability of the proposal to the Agency's strategic goals. In addition, two additional criteria related to the applicant's past performance have been added. Programmatic Capability and Qualifications of the Applicant will evaluate the extent to which the applicant possesses the technical experience and administrative ability to carry out the grant or cooperative agreement, and Environmental Results Past Performance will evaluate how the applicant documented and/or reported on its progress towards achieving the expected results (i.e., outputs and outcomes) under prior agreements. This year, aspects of the Innovation criterion (e.g., new technologies or market-based trading projects) will be addressed in the Quality of Proposal criterion.

Fifth, the applicant will be allotted more space in which to describe its proposal. Instead of the 10-page, double-spaced limitation in the past, applicants will be allowed a total of 12 pages with no spacing limitations in which to present their proposals. All materials including the proposal narrative, budget narrative, grants management experience, tables, timelines, graphs, maps, and pictures must be included in the 12 pages. The 12-page limitation does not include the SF 424, the SF 424A, the Governor or Tribal Leader nomination letter(s) and the accompanying letters of support. See Section IV for more information.

Sixth, EPA has extended the length of the grant period from three to a maximum of five years. The Agency, in general, expects project implementation to be completed within two to three years and the monitoring component conducted continuously throughout the project period.

Finally, the Federal Government now provides the option to apply for many grants and submit materials through a standardized electronic grants application system called Grants.gov. In addition, this will be the last Targeted Watersheds Grant Program request for proposals that will be announced in the Federal Register.

E. Statutory Authority

The grants or cooperative agreements funded as a result of this announcement will be awarded under the independent authority contained in the Department of the Interior, Environment, and Related Agencies Appropriations Act, 2006 (Pub. L. 109-54) and the anticipated Department of the Interior, Environment, and Related Agencies Appropriations Act for 2007.

F. Geospatial Information

Grants awarded under this announcement may involve Geospatial Information. Geospatial data generally means information that identifies, depicts, or describes the geographic locations, boundaries, or characteristics of inhabitants and natural or constructed features on the Earth. This includes such information derived from, among other sources, socio-demographic analysis, economic analysis, land information records and land use information processing, statistical analysis, survey and observational methodologies, environmental analysis, critical infrastructure protection, satellites, remote sensing, airborne imagery collection, mapping, engineering, construction, global positioning systems, and surveying technologies and activities. It also includes individual point or site-specific data that are referenced to a location on the earth and digital aerial imagery of the earth.

This information may be derived from, among other things, Geographic Information Systems (GIS), Global Positioning Systems (GPS), remote sensing, mapping, charting, and surveying technologies, or statistical data. For purposes of EPA grants, this refers to geographically based information or data or the tools, applications or hardware that allow one to collect, manage, analyze, store or distribute data in a geographic manner.

II. Award Information

Approximately $7.1 million to about $16 million is expected to be available for awards under this announcement (these totals represent combining a portion of both 2006 and anticipated 2007 Targeted Watersheds Grant funds) depending upon the amount of FY 2007 funds and the quality of proposals received. EPA plans to award approximately 9 to 20 grants or cooperative agreements under this announcement. Anticipated awards will range from approximately $600,000 to $900,000 each, depending on the amount requested, the overall size and scope of the project, and the total amount of funds available.

Awards under this program can have up to a five-year project period, if warranted. Recipients should complete their project implementation within two to three years and continue to monitor water quality and other pertinent metrics for an additional one to two years, for a maximum of up to five years. The total project period, including any no-cost, one-year extensions provided to award recipients cannot exceed five years.

EPA reserves the right to partially fund proposals/applications under this announcement by funding discrete activities, portions, or phases of proposed projects. If EPA decides to partially fund a proposal/application, it will do so in a manner that does not prejudice any applicants or affect the basis upon which the proposal/application, or portion thereof, was evaluated and selected for award, and that maintains the integrity of the competition and selection process. EPA also reserves the right to make no awards, or fewer awards than expected under this announcement.

EPA reserves the right to make additional awards under this announcement consistent with Agency policy, if additional funding becomes available. Any additional selections for awards will be made no later than six months after the original selection decisions.

Selected recipients will enter into a funding agreement with the applicable EPA Regional Office (see Section VII). The Targeted Watersheds Grant Program funds both grants and cooperative agreements. Although EPA will negotiate precise terms and conditions relating to substantial involvement as part of the award process, cooperative agreements permit substantial involvement between the EPA Project Officer and the selected applicant in the performance of work supported by program funds. Federal involvement for projects selected may include close monitoring of the recipient(s performance; collaboration during the performance of the scope of work; in accordance with 40 CFR 31.36(g), review of proposed procurements; reviewing qualifications of key personnel (EPA does not have the authority to select employees or contractors employed by the recipient); and/or review and comment on the content of publications (printed or electronic) prepared (the final decision on the content of reports rests with the recipient).

III. Eligibility Information

A. Eligible Applicants

States, local governments, public and private nonprofit institutions/organizations, federally recognized Indian tribal governments, U.S. territories or possessions, and interstate agencies are eligible to apply. For-profit commercial entities and all Federal agencies are ineligible. Nonprofit organizations described in Section 501(c)(4) of the Internal Revenue Code that engage in lobbying activities as defined in Section 3 of the Lobbying Disclosure Act of 1995 are not eligible to apply.

B. Cost Sharing/Match Requirement

EPA is requiring applicants to demonstrate in their proposal submission how they will provide the minimum non-federal match of 25 percent of the total cost of the proposal. This means EPA will fund a maximum of 75 percent of the total project cost. In addition to cash, matching funds can come from in-kind contributions, such as the use of volunteers and/or donated time, equipment, expertise, etc., consistent with the regulations governing matching fund requirements (40 CFR 31.24 or 40 CFR 30.23). Federal funds may not be used to meet the match requirement for this grant program unless authorized by the statute governing their use.

Federally recognized Indian tribal governments may be exempt from this match requirement if fulfilling the match requirement would impose undue hardship. Tribal governments wishing to be exempt from the minimum 25 percent match requirement must submit a one-page written request with justification within 30 calendar days from the date of this announcement. Match exemption requests should be sent directly to the EPA contact listed in Section IV.D. EPA will notify the potential applicant of its decision within 10 business days. If approved, the proposal will be scored as if it meets the minimum 25 percent match.

To determine if the minimum match is met, the following formulas may be helpful:

(1) Amount ($) requested from EPA/Cost ($) of entire project ≥ 0.75, or

(2) Total cost ($) of proposal/4 = Amount ($) needed for match.

For example, if the total cost of the project is $1 million, the applicant must be able to provide $250,000 in matching funds or services. In this example, the federally funded portion of the project would be $750,000.

C. Threshold Eligibility Criteria

These are requirements which, if not met at the time of proposal submission, will result in elimination of the proposal from consideration for funding. Only proposals that meet all of these criteria will be evaluated against the ranking factors in Section V of this announcement. Applicants deemed ineligible for funding consideration as a result of the threshold eligibility review will be notified within 15 calendar days of the ineligibility determination.

1. An applicant must meet the eligibility requirements as described in Section III.A.

2. Applicants must demonstrate how they will provide a match of 25 percent of the total project cost as described in Section III.B above.

3. The proposal must be nominated by a State Governor or Tribal Leader.

4. The proposal must contain the six components as described in Section IV.C.

5. Submissions that are faxed or sent by standard U.S. Postal Service (USPS) parcel post will not be accepted, as described in Section IV.D.

6. Proposals must be received by EPA or through Grants.gov on or before the solicitation closing date and time specified in Section IV. Proposals received after the closing date and time will be returned to the sender without further consideration. In addition, pages submitted in excess of the 12-page limitation described in Section IV.C will not be reviewed.

D. Funding Restrictions

EPA has chosen to declare certain projects or activities ineligible for funding. These include activities required or regulated under the CWA. For example, activities for the development of Total Maximum Daily Loads (TMDLs) and Phase II Stormwater projects will not be funded. Activities implementing the non-regulatory component of TMDLs (e.g., the elements of a watershed plan that address non-point source pollution), however, are eligible. The construction of buildings or other major structures, or the purchase of major equipment or machinery will not be funded under this program. Proposals containing a sub-award project (also called mini-grants) are eligible, but the portion that is to be regranted to third parties within the watershed via a smaller-scaled competition should account for no more than 20 percent of the requested funding amount. If proposals are submitted that have ineligible projects or activities, those projects or activities in the proposals will not be considered for funding.

All costs incurred under this program must be allowable under the applicable Office of Management and Budget (OMB) Cost Circulars: A-87 (States and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (i.e., lobbying members of Congress or lobbying for other Federal grants, cooperative agreements, or contracts).

IV. Application and Submission Information

A. Address To Request Application Package

Grant application forms, including Standard Forms SF 424 and SF 424A, are available at http://www.epa.gov/ogd/grants/how_to_apply.htm and by mail upon request by calling the Grants Administration Division at (202) 564-5320.

B. Form of Application Submission

Applicants must submit their proposal using one of the two methods outlined below. All proposals must be prepared and include the information as described in Section IV.C regardless of mode of submission.

1. Hard Copy and Compact Disc (CD)

Two hard copies of the complete proposal package as described below in Section IV.C, and a CD of the complete proposal package, are required to be sent by express mail or courier service, or hand delivered. Please mark all submissions: ATTN: TWG—Implementation (see Section IV.D for address). The CD may be in Adobe Portable Document Format (.pdf), Microsoft Word (.doc), or WordPerfect (.wpd). Nomination letter(s), letters of support, and maps will need to be scanned so that they can be submitted as part of the CD. Pictures and/or computer generated maps may be included as separate files using .jpg or .tif format.

2. Grants.gov Submission

Applicants who wish to submit their materials electronically through the Federal Government's Grants.gov Web site may do so. Grants.gov allows an applicant to download a proposal or application package template and complete the package offline based on agency instructions. After an applicant completes the required proposal or application package, it can submit the package electronically to Grants.gov, which transmits the package to the funding agency. Nomination letter(s), letters of support, pictures, and maps will need to be scanned so that they can be submitted electronically as part of the proposal package. Pictures and/or computer generated maps must also be in an electronic format and submitted along with the proposal package.

If you wish to apply electronically via Grants.gov, the electronic submission of your proposal package must be made by an official representative of your institution who is registered with Grants.gov and authorized to sign applications for Federal assistance. For more information, go to http://www.grants.gov and click on “Get Registered” on the left side of the page. Note that the registration process may take a week or longer to complete. If your organization is not currently registered with Grants.gov, please encourage your office to designate an AOR and ask that individual to begin the registration process as soon as possible.

To begin the application process for this grant program, go to http://www.grants.gov and click on the “Apply for Grants” tab on the left of the page. Then click on “Apply Step 1: Download a Grant Application Package and Instructions” to download the PureEdge viewer and obtain the application package and instructions for applying under this announcement using grants.gov (https://apply.grants.gov/forms_apps_idx.html). You may retrieve the application package and instructions by entering the Funding Opportunity Number, EPA-OW-OWOW-06-3, or the CFDA number, in the space provided. Then complete and submit the application package as indicated. You may also be able to access the application package by clicking on the button “How To Apply” at the top right of the synopsis page for this announcement on http://www.grants.gov (to find the synopsis page, go to http://www.grants.gov and click on the “Find Grant Opportunities” button on the left side of the page and then go to Search Opportunities and use the Browse by Agency feature to find EPA opportunities).

Application/proposal materials submitted through Grants.gov will be time/date stamped electronically. Complete instructions on applying through Grants.gov are provided in Attachment A to this announcement.

C. Content of Application Submission

Apart from the SF 424, the SF 424A, the Governor or Tribal Leader nomination letter(s), and the accompanying letters of support, the remaining parts of the proposal package (comprised of items 2-3 below) must not exceed 12 pages in length and should use a 12-point font. Pages in excess of 12 will not be reviewed. All materials including the project narrative, budget, tables, timeline, charts, graphs, maps, and pictures must be included within the 12 pages. Moreover, any appendices aside from the nomination letter and support letters will not be reviewed. Applicants are responsible for the contents of their proposals.

Each proposal package must contain all of the components listed in this section. Failure to submit any of the six components will result in disqualification and removal from the selection process.

1. Nomination letter

A letter signed by the Governor or Tribal Leader formally nominating the watershed for consideration for funding must accompany each proposal package.

2. Proposal Narrative

a. Cover page. The cover page should include:

(1) The name of the watershed along with the designated 8-digit Hydrological Unit Code(s) (HUCs);

(2) The impaired waters, such as any degraded stream segments within the project area that are on the State's 303(d) list;

(3) Nominee contact information (i.e., name, affiliation, address, telephone, and E-mail of the person with whom the Agency should correspond);

(4) Tax status or other description of organization; and

(5) Internet Web site (i.e., URL) of the organization, if available.

HUCs (also known as USGS Cataloging Units) and State 303(d) listings can be found on EPA(s Surf Your Watershed Web site at http://www.epa.gov/surf/.

b. Abstract. Provide a brief (approximately 150-word) executive summary of the proposal. This should include a brief description of the perceived need for the work, the proposed work, and the anticipated outputs and outcomes.

c. Project Narrative. The narrative description of the proposed tasks and activities must include the following sections:

(1) Characterization of the watershed. Describe the watershed, including any critical or significant natural resources, such as wetlands. Include a description of the physical, chemical, biological, ecological, socioeconomic, and cultural characteristics, including rural, urban, and environmental justice areas. Briefly describe the environmental problems and threats facing the watershed and the existing watershed plans and planning efforts addressing the problems and threats, including demographics of the impacts.

(2) Project need. Describe the environmental significance of the project, that is, the problem or conservation issue(s) to be addressed, why it is a priority, and the context relevant to the overall watershed plan. The objectives of the proposal and the immediate and long-term desired outcomes should be described relative to the overall environmental conditions. An assessment of the natural resource and environmental conditions and evidence of problem sources, along with the prioritization of the threats and impairments facing the watershed should be included. The prioritization should focus on those threats and impairments that will be addressed by the proposal.

(3) Project plan. Describe the work that will be done using Targeted Watersheds Grant funding. Identify the specific deliverables and the anticipated outcomes (i.e., quantifiable results) associated with the major project components.

(i) Project components: Describe in detail the tasks and activities for each project for each year of the project period. Include milestones and/or timelines for accomplishing tasks for the project period. Explain how the projects fit together to benefit the watershed as a whole and are ready for implementation (i.e., feasibility). Include in this section why the proposal will work and what makes it innovative. If the proposal is a market-based trading project, describe the drivers, the buyers and sellers, and the scheme already in place so that a trade can begin.

(ii) Partnering: Describe how you will engage partners and other stakeholders in your project. Interjurisdictional watershed partnerships (i.e., those that encompass abutting areas and thus neighboring political authorities) are encouraged. Watershed proposals that encompass more than one governmental authority will be considered interjurisdictional provided that the Governor, Tribal Leader or local government elected official, or the appropriate water agency in the adjacent State, Tribe, or local government entity is a partner or otherwise supports the project(s).

(iii) Financial Integrity/Budget: Explanations of the costs associated with each project should be included. Description of costs should correspond to figures presented in the SF 424A (see item 6).

(4) Anticipated Outputs and Outcomes. Applicants must include specific statements describing the anticipated environmental results of the proposed project in terms of well-defined “outputs” and to the maximum extent practicable, well-defined “outcomes” (See Section I for details on outputs and outcomes).

(i) Monitoring and measuring: Describe the water quality monitoring and assessment that will be conducted consistent with the project components. Identify appropriate environmental indicators that will be monitored, and describe the method for evaluating environmental improvements. Describe the methodology (i.e., sampling, survey models, etc.) and time table that will be used to measure progress, including your approach to measuring progress towards achieving the expected project outcomes and outputs including those identified in Section I.

(ii) Environmental Results Past Performance: Identify federally funded assistance agreements that your organization performed within the last three years (no more than five and preferably EPA agreements) and briefly describe how you documented and/or reported on whether you were making progress towards achieving the expected results (i.e., outputs and outcomes) under those agreements. If you were not making progress, please indicate whether, and how, you documented why not. If you do not have any relevant or available environmental results past performance information, please indicate this in the proposal and you will receive a neutral score for this factor under Section V.

(5) Peer Outreach and Information Transfer. Describe the outreach component of the project. Describe the strategy for disseminating the results, including lessons learned, of the project among watershed organizations and governmental agencies with similar environmental challenges within the project watershed and to a wider (i.e., regional or national) audience. Describe how the project will promote and actively conduct technology transfer or provide technical assistance that improves the knowledge of state and local decision-makers.

(6) Programmatic Capability/Technical Experience. Identify federally funded assistance agreements similar in size, scope, and relevance to the proposed project that your organization performed within the last three years (no more than five and preferably EPA agreements) and briefly describe (i) whether, and how, you were able to successfully complete and manage those agreements and (ii) your history of meeting the reporting requirements under those agreements including submitting acceptable final technical reports. If you do not have any relevant or available past performance or reporting information, please indicate this in the proposal and you will receive a neutral score for these factors under Section V.

In addition, provide information on your organizational experience and plan for timely and successfully achieving the objectives of the proposed project, and your staff expertise/qualifications, staff knowledge, and resources or the ability to obtain them, to successfully achieve the goals of the proposed project.

Note: The proposal narrative should also include any additional information, to the extent not otherwise addressed above, that addresses the selection criteria found in Section V.A.

3. Map(s)

A map of the watershed and the proposed work areas must accompany the narrative text.

4. SF 424A

In addition to the narrative text, applicants must provide a detailed breakdown of cost by category for each project on the SF 424A. All project costs including grant administration costs, matching funds, other leveraged funds, and travel, including travel to the annual conference (see Section VIII.B), should be included.

5. Letter(s) of Support

To substantiate the information contained in the narrative portion of the submission, letters verifying partnerships and matching funds are required. Applicants are encouraged to demonstrate active involvement of both public and private partners via letters of support. All letters must be on the official letterhead of the agency or organization.

(a) Signed letter(s) from active partners indicating their commitment to implementing the workplan or specific proposed projects.

(b) A minimum of one letter signed by an authorizing official from an entity committing to provide matching funds, either in cash or in-kind contributions, including the total value of its commitment toward the projects.

(c) For interjurisdictional consideration, a signed letter(s) from the Governor, Tribal Leader or local government elected official, or the appropriate water agency in the adjacent State, Tribe, or local government entity expressing its support and participation in the proposed project(s).

6. Signed SF 424

D. Submission Dates and Times

Applicants who choose to submit their materials in hard copy form must send two copies of their complete proposal packages and the CD to Erin Collard, Office of Wetlands, Oceans and Watersheds; U.S. EPA; Room 7136G; 1301 Constitution Avenue, NW.; Washington, DC 20004; telephone: 202-566-2655. Proposals submitted to the above address will be considered if received through courier, hand-delivery, or by express delivery service by 5 p.m., Eastern Standard Time, November 13, 2006. Due to security measures, EPA cannot accept submission packages sent by standard U.S. Postal Service parcel post; however, USPS overnight or two-day express delivery is acceptable.

Submissions through Grants.gov must be received by Grants.gov by 5 p.m., Eastern Standard Time, November 13, 2006.

E. Intergovernmental Review

If selected for award, applicants must comply with the Intergovernmental Review Process and/or consultation provisions of Section 204, Demonstration Cities and Metropolitan Development Act, if applicable, which are contained in 40 CFR part 29. Applicants should consult the office or official designated as the single point of contact in his or her state for more information on the process the state requires to be followed in applying for assistance if the state has selected the program for review. Further information regarding this requirement will be provided if your application is selected for funding.

F. Confidential Business Information

In accordance with 40 CFR 2.203, applicants may claim all or a portion of their application/proposal as confidential business information. EPA will evaluate such claims in accordance with 40 CFR part 2. Applicants must clearly mark applications/proposals or portions of applications/proposals they claim as confidential. If no claim of confidentiality is made, EPA is not required to make the inquiry to the applicant which is otherwise required by 40 CFR 2.204(2) prior to disclosure.

V. Application Review Information

A. Evaluation Criteria

All eligible proposals, based on the Section III threshold eligibility review, will be evaluated based on the following criteria and weights below. Points will be awarded based on how well each evaluation criterion and/or subcriterion is addressed.

Weight based on a 65 point scale.

20 points | 1. Quality of Proposal. Under this criterion, proposals will be evaluated based on the extent and quality to which they describe project(s) that are part of larger watershed assessments and plans and reflect a watershed-based approach to conservation and restoration. Reviewers will evaluate whether the approach is technically/scientifically sound and/or innovative, if the methods are appropriate, and whether there are clear project goals and measurable objectives. Under this criterion, reviewers will focus on the following components:
| (a) Feasibility. The extent and quality to which the applicant demonstrates an understanding of priority water resource problems within the watershed, has substantially completed the assessment and planning phase, and is prepared to begin work. Reviewers will look at level of project development (i.e., the readiness of the project, technical merit, and expected environmental improvements) (15 points).
| (b) Innovation. The extent and quality to which the proposal describes unique, creative or novel approaches to environmental restoration or protection. Emphasis will be placed on how well the proposal demonstrates a thoughtful and strategic approach to problem-solving including, but not limited to, water quality trading (5 points).
15 points | 2. Anticipated Outputs and Outcomes. Under this criterion, proposals will be evaluated based on the extent and quality to which a proposal clearly articulates a set of performance and progress measures and identified and measurable indicators as identified in Section I of this announcement.
| (a) Measuring and Monitoring. The extent and quality to which the proposal demonstrates a sound plan for measuring progress toward achieving the expected outputs and outcomes including those identified in Section I of the announcement (10 points).
| (b) Past Performance. The extent and quality to which the applicant adequately documented and/or reported on their progress towards achieving the expected results (outcomes and outputs) under Federal agency assistance agreements performed within the last three years, and if such progress was not being made whether the applicant adequately documented and/or reported why not (5 points).
| Note: In evaluating applicants under this factor, EPA will consider the information provided by the applicant and may also consider relevant information from other sources including agency files and prior/current grantors (to verify and/or supplement the information supplied by the applicant). Applicants with no relevant or available past performance reporting history will receive a neutral score for this factor of 2.5 points.
5 points | 3. Environmental Significance. Under this criterion, proposals will be evaluated based on: (a) The extent and quality to which the proposal demonstrates relevance to solving an important environmental problem in that watershed and reflects state and Federal environmental priorities and goals (2.5 points) and (b) the extent and quality to which the proposed project(s) are interrelated to improve the water quality and water resources, including wetlands, within the watershed (2.5 points).
10 points | 4. Broad Support. Under this criterion, proposals will be evaluated based on how well they show the applicant's ability to demonstrate and substantiate strong collaborative partnerships and document effective working relationships among state, tribal, local entities, and broad-based community involvement. Scores will be based on the extent and quality to which the applicant can show a wide variety of public, private, and non-profit participation, and the level to which the applicant can demonstrate strong and diverse stakeholder stewardship and support (5 points). Reviewers will also consider interjurisdictionality, that is the extent and quality to which the proposal actively involves more than one governmental entity (i.e., Federal, state, tribal, or local government entity) (5 points).
5 points | 5. Peer Outreach and Information Transfer. Under this criterion, proposals will be evaluated based on the design and breadth of the outreach component. The score will be based on the extent and quality to which the applicant demonstrates a clear strategy for transferring the knowledge and experience garnered to other watershed organizations and agencies with similar environmental challenges both within and beyond the affected watershed.
5 points | 6. Financial Integrity. Under this criterion, proposals will be evaluated based on the adequacy of the budget information provided, whether it is reasonable and clearly presented, and the extent to which the applicant can demonstrate a broad range of leveraging capacity.
5 points | 7. Programmatic Capability (Technical Experience) and Qualifications of the Applicant. Under this criterion, applicants will be evaluated based on their ability to successfully complete and manage the proposed project taking into account the following factors:
| (i) Past performance in successfully completing and managing federally funded assistance agreements similar in size, scope, and relevance to the proposed project within the last three years (1 point);
| (ii) History of meeting reporting requirements under federally funded assistance agreements similar in size, scope, and relevance to the proposed project within the last three years and submitting acceptable final technical reports under those agreements (1 point);
| (iii) Organizational experience and plan for timely and successfully achieving the objectives of the proposed project (1 point); and
| (iv) Staff expertise/qualifications, staff knowledge, and resources or the ability to obtain them, to successfully achieve the goals of the project (2 points).
| Note: In evaluating applicants under this factor, the Agency will consider the information supplied by the applicant and may also consider relevant information from other sources including agency files and prior/current grantors (i.e., to verify and/or supplement the information supplied by the applicant). Applicants with no relevant or available past performance information or reporting history (i.e., items (i) and (ii) under this criterion) will receive a neutral score of one-half point for each of those elements.

B. Review and Selection Process

All proposals received by EPA or submitted electronically through Grants.gov by the solicitation deadline will be sent to the appropriate EPA regional office(s) based on project location. All proposals will be evaluated against the threshold criteria listed in Section III of this announcement. Proposals that do not pass the threshold review will not be considered for funding and the applicant will be so notified.

All eligible proposals within each region will be reviewed and scored by a panel of EPA regional watershed experts using the evaluation criteria outlined in Section V.A. Based on the review, each regional panel will develop a list of the most highly rated proposals to submit to their Regional Administrator. Based on the panel's scores, each Regional Administrator can recommend up to four proposals to the national panel.

The national panel, which will consist of representatives from agency programs and regional offices, will evaluate the (up to) 40 semi-finalists based on: (1) Geographic diversity, (2) amount of funds leveraged, and (3) project diversity. Based on the review of the semi-finalists against these factors, the panel will develop a list of proposals to recommend for funding to submit to the Selection Official (typically the Assistant Administrator for Water) for approval. In making the final award decisions, the Selection Official will consider the national panel's recommendation and may also take into account national program priorities.

VI. Award Administration Information

A. Award Notices

All applicants, including those who are not selected for funding, will be notified by mail. Successful applicant(s) will be invited to submit a complete application package prior to award (see 40 CFR 30.12 and 31.10) that will be due approximately 60 days after being notified. Required forms and instructions for preparing and submitting the completed application will be provided at that time.

EPA expects to announce its selections early in calendar year 2007. The exact amount of funds to be awarded, specific activities, duration of the projects, and role of the EPA Project Officer will be determined in the pre-award negotiations between the selected applicant and EPA.

EPA reserves the right to negotiate and/or adjust the final grant amount and workplan content prior to award, as appropriate and consistent with Agency policy including the Assistance Agreement Competition Policy, EPA Order 5700.5A1.

An approvable workplan is required to include:

1. Workplan components to be funded under the grant or cooperative agreement;

2. Estimated work years and the estimated funding amounts for each workplan component;

3. Workplan commitments for each workplan component and a timeframe for their accomplishment;

4. Performance evaluation process and reporting schedule; and

5. Roles and responsibilities of the recipient and EPA in carrying out the workplan commitments.

In addition, successful applicants will be required to certify that they have not been Debarred or Suspended from participation in Federal assistance awards in accordance with 40 CFR part 32.

A listing of successful proposals will be posted on http://www.epa.gov/twg Web site address at the conclusion of the competition. This Web site may also contain information about this announcement including information concerning deadline extensions or other modifications.

Applicants will receive a notice of award through postal mail. The notice of award signed by the Award Official (or equivalent) in the Grants Administration Division is the authorizing document, and will be mailed to the individual signing the original application.

B. Administrative and National Policy Requirements

The general award and administration process for all Targeted Watersheds Grants is governed by regulations at 40 CFR part 30 (“Uniform Administrative Requirements for Grants and Agreements to Institutions of Higher Education, Hospitals, and Other Non-profit Organizations”) and 40 CFR part 31 (“Uniform Administrative Requirements for Grants and Cooperative Agreements to State and Local Governments”).

DUNS Number

All applicants are required to provide a number from the Dun and Bradstreet Data Universal Numbering System (DUNS) when applying for Federal assistance agreements. Organizations can receive a DUNS number in one day at no cost by calling the dedicated toll-free request line at 1-866-705-5711 or by visiting the Web site at http://www.dnb.com.

C. Reporting

Project monitoring and reporting requirements can be found in 40 CFR 30.50-30.52, 40 CFR 31.40-31.41. In general, recipients are responsible for managing the day-to-day operations and activities supported by the grant or cooperative agreement to assure compliance with applicable Federal requirements, and for ensuring that established milestones and performance goals are being achieved. Performance reports and financial reports must be submitted quarterly and are due 30 days after the reporting period. The format for these reports will be identified during the grant application time frame, and will include reporting on established performance measures indicated in the project description (i.e., goals, outputs and outcomes). The final report is due 90 days after the assistance agreement has expired.

D. Dispute Process

Assistance agreement competition-related disputes will be resolved in accordance with the dispute resolution procedures published in 70 FR 3629, 3630 (January 26, 2005), which can be found at: http://a257.g.akamaitech.net/7/257/2422/01jan20051800/edocket.access.gpo.gov/2005/05-1371.htm.

E. Administrative Capability Requirement

Nonprofit applicants that are recommended for funding under this announcement may be subject to pre-award administrative capability reviews consistent with Section 8b, 8c, and 9d of EPA Order 5700.8—Policy on Assessing Capabilities of Non-Profit Applicants for Managing Assistance Awards (http://www.epa.gov/ogd/grants/award/5700_8.pdf). In addition, nonprofit applicants that qualify for funding may, depending on the size of the award, be required to fill out and submit to the Grants Management Office the Administrative Capabilities Form with supporting documents contained in Appendix A of EPA Order 5700.8.

VII. Agency Contacts

Note to Applicants: EPA will respond to questions from individual applicants regarding threshold eligibility criteria, administrative issues related to the submission of the proposal, and requests for clarification about the announcement. Questions must be submitted in writing and received by EPA before October 30, 2006 to the appropriate EPA Regional Contact and written responses will be posted on EPA's Web site at: http://www.epa.gov/twg. In accordance with EPA's Competition Policy (EPA Order 5700.5A1), EPA staff will not meet with individual applicants or discuss draft proposals, provide informal comments on draft proposals, or provide advice to applicants on how to respond to ranking criteria.

EPA Regional Contacts

Region I—Connecticut, Maine, Massachusetts, Rhode Island, Vermont, New Hampshire: Rob Adler or Jerry Potamis; telephones 617-918-1396 and 617-918-1651; E-mails adler.robert@epa.gov and potamis.gerald@epa.gov, respectively.

Region II—New Jersey, New York, Puerto Rico, U.S. Virgin Islands: Cyndy Kopitsky; telephone 212-637-3832; E-mail kopitsky.cyndy@epa.gov.

Region III—Delaware, Maryland, Pennsylvania, Virginia, West Virginia, Washington, DC: Ralph Spagnolo; telephone 215-814-2718; E-mail spagnolo.ralph@epa.gov.

Region IV—Alabama, Florida, Georgia, Mississippi, North Carolina, South Carolina, Kentucky, Tennessee: William L. Cox; telephone 404-562-9351; E-mail cox.williaml@epa.gov.

Region V—Illinois, Indiana, Michigan, Minnesota, Ohio, Wisconsin: Paul Thomas; telephone 312-886-7742; E-mail thomas.paul@epa.gov.

Region VI—Louisiana, Texas, Oklahoma, Arkansas, New Mexico: Brad Lamb; telephone 214-665-6683; E-mail lamb.brad@epa.gov.

Region VII—Iowa, Kansas, Missouri, Nebraska: Jaci Ferguson; telephone 417-575-8028; E-mail ferguson.jaci@epa.gov.

Region VIII—Colorado, Montana, North Dakota, South Dakota, Utah, Wyoming: Gary Kleeman; telephone 303-312-6246; E-mail kleeman.gary@epa.gov.

Region IX—Arizona, California, Hawaii, Nevada, American Samoa, Mariana Islands, Guam: Sam Ziegler; telephone 415-972-3399; E-mail ziegler.sam@epa.gov

Region X—Alaska, Idaho, Oregon, Washington: Bevin Reid; telephone 206-553-1566; E-mail reid.bevin@epa.gov.

VIII. Other Information

A. Quality Assurance and Quality Control (QA/QC)

Certain quality assurance and/or quality control (QA/QC) and peer review requirements are applicable to the collection of environmental data. Environmental data are any measurements or information that describe environmental processes, location, or condition; ecological or health effects and consequences; or the performance of environmental technology. Environmental data also include information collected directly from measurements, produced from models, and obtained from other sources such as data bases or published literature. Regulations pertaining to QA/QC requirements can be found in 40 CFR 30.54 and 31.45. Additional guidance can be found at http://www.epa.gov/quality/qa_docs.html#noeparqt.

Applicants should allow sufficient time and resources for this process in their proposed projects. If your organization does not have a Quality Management System in place, one must be developed. A project specific Quality Assurance Project Plan (QAPP) must be submitted and approved by EPA. Allow 4-6 months in your timeline for approval of these plans. All projects will require a QAPP.

B. Assistance Agreement Terms and Conditions

1. Annual Grantee Conference

The grantee must attend the annual National Targeted Watersheds Grantee Conference at the initiation of the project and a subsequent annual conference to be determined in consultation with the EPA Project Officer. Attendance at two conferences is mandatory. The purpose of these conferences is to provide watershed organizations with training and support to better restore, protect, and manage their watersheds, provide help and assistance regarding Agency grants management requirements and, most importantly, provide grant recipients with opportunities to share successful approaches with each other.

Attendance at a minimum of two conferences will be mandatory and will be included in the Terms and Conditions of the grant or cooperative agreement. The recipient will be allowed to use award funds to pay for travel and lodging. The cost of hosting the conference will be paid for by EPA. If the recipient wishes to use the award money for travel expenses, these costs must be included in the submitted proposed budget.

2. Information Technology

Also as a Term and Condition of the grant, recipients will be required to institute standardized reporting requirements into their workplans and include such costs in their budgets. All environmental data will be required to be entered into the Agency's Storage and Retrieval data system (STORET) and recipients may need to purchase appropriate ORACLE software. STORET is a repository for water quality, biological, and other physical data used by state environmental agencies, EPA and other Federal agencies, universities, private citizens, and many other organizations. Information regarding training sessions sponsored by EPA will be provided. Watershed organizations may also want to contact their state agency responsible for entering data into the system. More information about STORET can be found at http://www.epa.gov/STORET.

Dated: July 7, 2006.
Benjamin H. Grumbles,
Assistant Administrator for Water.

Attachment A—How To Submit Your Proposal Through Grants.gov

At http://www.grants.gov, you will find step-by-step instructions which will help you to apply under this announcement. Proposals submitted through Grants.gov will be time/date stamped electronically.

If you wish to apply electronically via Grants.gov, the electronic submission of your proposal must be made by an official representative of your institution who is registered with Grants.gov and authorized to sign applications for Federal assistance. For more information, go to http://www.grants.gov and click on “Get Registered” on the left side of the page. Note that the registration process may take a week or longer to complete. If your organization is not currently registered with Grants.gov, please encourage your office to designate an Authorized Organization Representative (AOR) and ask that individual to begin the registration process as soon as possible.

To begin the application process for this announcement, go to http://www.grants.gov and click on the “Apply for Grants” tab on the left side of the page. Then click on “Apply Step 1: Download a Grant Application Package and Instructions” to download the PureEdge viewer and obtain the application package (https://apply.grants.gov/forms_apps_idx.html). You may retrieve the application package and instructions by entering the Funding Opportunity Number, EPA-OW-OWOW-06-3, or CFDA number, in the space provided. You may also be able to access the application package by clicking on the button “How To Apply” at the top right of the synopsis page for this announcement on http://www.grants.gov (to find the synopsis page go to http://www.grants.gov and click on the “Find Grant Opportunities” button on the left side of the page and then go to “Search Opportunities” and use the “Browse by Agency” feature to find EPA opportunities).

Applicants are required to submit electronic versions of the documents described in Section IV.C of the announcement to apply through Grants.gov: the proposal narrative, letters of nomination and support, map, SF 424 and SF 424A.

For the Proposal Narrative portion, you will need to attach electronic files. Prepare your narrative as described in Section IV.C of the announcement and save the document to your computer as an MS Word, PDF or WordPerfect file. When you are ready to attach your proposal narrative to the application package, click on “Project Narrative Attachment Form,” and open the form. Click “Add Mandatory Project Narrative File,” and then attach your narrative (previously saved to your computer) using the browse window that appears. You may then click “View Mandatory Project Narrative File” to view it. Enter a brief descriptive title of your project in the space beside “Mandatory Project Narrative File Filename,” the filename should be no more than 40 characters long. If there other attachments that you would like to submit to accompany your narrative, you may click “add Optional Project Narrative File” and proceed as before. When you have finished attaching the necessary documents, click “Close Form.” When you return to the “Grant Application Package” page, select the “Project Narrative Attachment Form” and click “Move Form to Submission List.” The form should now appear in the box that says, “Mandatory Completed Documents for Submission.”

For the SF 424 and SF 424A, click on the appropriate form and then click “Open Form” below the box. The fields that must be completed will be highlighted in yellow. Optional fields and completed fields will be displayed in white. If you enter an invalid response or incomplete information in a field, you will receive an error message. When you have finished filling out each form, click “Save.” When you return to the electronic Grant Application Package page, click on the form you just completed, and then click on the box that says, “Move Form to Submission List.” This action moves the document over to the box that says, “Mandatory Completed Documents for Submission.” All additional documents may be submitted as “Attachments”.

Once you have finished filling out all of the forms/attachments and they appear in one of the “Completed Documents for Submission” boxes, click the “Save” button that appears at the top of the Web page. It is suggested that you save the document a second time, using a different name, since this will make it easier to submit an amended package later if necessary.

Please use the following format when saving your file: “Applicant Name—TWG—FY06—Watershed Name—State.” If it becomes necessary to submit an amended package at a later date, then the name of the 2nd submission should be changed to “Applicant Name—TWG—FY06—Watershed Name—State—2nd Submission.” Once your application package has been completed and saved, send it to your AOR for submission to U.S. EPA through Grants.gov. Please advise your AOR to close all other software programs before attempting to submit the application package through Grants.gov.

In the “Application Filing Name” box, your AOR should enter your organization's name (abbreviated where possible), the appropriate region, the fiscal year (e.g., FY06), and the grant category (e.g., Environmental Quality). The filing name should not exceed 40 characters. From the “Grant Application Package” page, your AOR may submit the application package by clicking the “Submit” button that appears at the top of the page. The AOR will then be asked to verify the agency and funding opportunity number for which the application package is being submitted. If problems are encountered during the submission process, the AOR should reboot his/her computer before trying to submit the application package again. [It may be necessary to turn off the computer (not just restart it) before attempting to submit the package again.] If the AOR continues to experience submission problems, he/she may contact Grants.gov for assistance by phone at 1-800-518-4726 or E-mail at http://www/grants.gov/help/help.jsp and at the same time, should notify Carol Peterson at 202-566-1304 or peterson.carol@epa.gov of the problem. If you have any technical difficulties at any time during this process, please refer to http://www.grants.gov/help/help.jsp.

[FR Doc. 06-6898 Filed 8-14-06; 8:45 am]

BILLING CODE 6560-50-P